SECURITIES AND EXCHANGE COMMISSION

[File No. 500-1]

In the Matter of Apogee Technology, Inc.; Order of Suspension of Trading

July 2, 2012.

It appears to the Securities and Exchange Commission that there is a lack of current and accurate information concerning the securities of Apogee Technology, Inc. (“Apogee”) because it has not filed any periodic reports since the period ended June 30, 2011.

The Commission is of the opinion that the public interest and the protection of investors require a suspension of trading in the securities of the above-listed company, and any equity securities of any entity purporting to succeed to this issuer.

Therefore, it is ordered, pursuant to Section 12(k) of the Securities Exchange Act of 1934, that trading in the securities of the above-listed company, and any equity securities of any entity purporting to succeed to this issuer, is suspended for the period from 9:30 a.m. EDT on July 2, 2012, through 11:59 p.m. EDT on July 16, 2012.

By the Commission.
Elizabeth M. Murphy,
Secretary.

[FR Doc. 2012-16538 Filed 7-2-12; 11:15 am]

BILLING CODE 8011-01-P